SECURITIES AND EXCHANGE COMMISSION

Issuer Delisting; Notice of Application to Withdraw from Listing and Registration; (The Network Connection, Inc., Common Stock, $.001 Par Value, and Attached Common Stock Purchase Rights) File No. 1-13760

October 18, 2000.

The Network Connection, Inc. (“Company”) has filed an application with the Securities and Exchange Commission (“Commission”), pursuant to Section 12(d) of the Securities Exchange Act of 1934 (“Act”) ¹ and Rule 12d2-2(d) ² thereunder, to withdraw its Common Stock, $.001 par value, and attached Common Stock Purchase Rights (referred to collectively herein as the “Securities”) from listing and registration on the Boston Stock Exchange (“BSE”).

¹ 15 U.S.C. 78l(d).

² 17 CFR 240.12d2-2(d).

In addition to being listed and registered on the BSE, the Securities trade over-the-counter and have been designated for quotation on the SmallCap Market of the Nasdaq Stock Market, Inc. (“Nasdaq”) since May 1995. The Company does not see any particular advantage in its Securities trading on two markets and so has applied to withdraw the Securities from listing and registration on the BSE in order to avoid possible fragmentation of the market for such Securities and to save the expense of maintaining the secondary listing.

The Company has stated in its application that it has complied with the rules of the BSE governing the withdrawal of its Securities from listing and that the BSE has in turn indicated that it will not oppose such withdrawal. In addition, the Company has stated that its application relates solely to the withdrawal of the Securities from listing and registration on the BSE and shall have no effect upon either their continued designation for quotation on the Nasdaq, their registration under Section 12(g) of the Act,³ or the Company's continued obligation to file with the Commission the periodic and other reports required by Section 13 of the Act.⁴

³ 15 U.S.C. 78l(g).

⁴ 15 U.S.C. 78m.

Any interested person may, on or before November 8, 2000, submit by letter to the Secretary of the Securities and Exchange Commission, 450 Fifth Street, NW., Washington, DC 20549-0609, facts bearing upon whether the application has been made in accordance with the rules of the BSE and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 00-27235 Filed 10-23-00; 8:45 am]

BILLING CODE 8010-01-M